DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with August anniversary dates. In accordance with Commerce's regulations, we are initiating those administrative reviews.

DATES: Applicable October 7, 2021.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with August anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for respondent selection. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than August 31, 2022.

| Period to be reviewed
AD Proceedings
INDIA: Finished Carbon Steel Flanges, A-533-871 | 8/1/20-7/31/21
Adinath International
Allena Group
Alloyed Steel
Balkrishna Steel Forge Pvt. Ltd.
Bansidhar Chiranjilal
Bebitz Flanges Works Private Limited
C. D. Industries
Cetus Engineering Private Limited
CHW Forge
CHW Forge Pvt. Ltd.
Citizen Metal Depot
Corum Flange
DN Forge Industries
Echjay Forgings Limited
Falcon Valves and Flanges Private Limited
Heubach International
Hindon Forge Pvt. Ltd.
Jai Auto Pvt. Ltd.
Kinnari Steel Corporation
Mascot Metal Manufacturers
M F Rings and Bearing Races Ltd.
Munish Forge Private Limited
Norma (India) Limited
OM Exports
Punjab Steel Works
Raaj Sagar Steels
Ravi Ratan Metal Industries
R. D. Forge
R.N. Gupta & Co. Ltd.
Rolex Fittings India Pvt. Ltd.
Rollwell Forge Engineering Components and Flanges
Rollwell Forge Pvt. Ltd.
SHM (ShinHeung Machinery)
Siddhagiri Metal & Tubes
Sizer India
Steel Shape India
Sudhir Forgings Pvt. Ltd.
Tirupati Forge Pvt. Ltd.
Uma Shanker Khandelwal & Co.
UmaShanker Khandelwal and Co.
Umashanker Khandelwal Forging Limited
USK Export Private Limited
INDONESIA: Utility Scale Wind Towers, A-560-833 | 2/14/20-7/31/21
PT Kenertec Power System
MALAYSIA: Polyethylene Retail Carrier Bags, A-557-813 | 8/1/20-7/31/21
Euro SME Sdn Bhd
MEXICO: Light-Walled Rectangular Pipe and Tube, A-201-836 | 8/1/20-7/31/21
Aceros Cuatro Caminos S.A. de C.V.
Arco Metal S.A. de C.V.
Fabricaciones y Servicios de Mexico
Galvak, S.A. de C.V.
Grupo Estructuras y Perfiles
Industrias Monterrey S.A. de C.V.
Internacional de Aceros, S.A. de C.V.
Maquilacero S.A. de C.V.
Nacional de Acero S.A. de C.V.
PEASA-Productos Especializados de Acero
Perfiles LM, S.A. de C.V.
Productos Laminados de Monterrey S.A. de C.V.
Regiomontana de Perfiles y Tubos S.A. de C.V.
Regiomontana de Perfiles y Tubos S. de R.L. de C.V.
Talleres Acero Rey S.A. de C.V.
Ternium Mexico S.A. de C.V.
Tuberias Aspe S.A de C.V.
Tuberia Laguna, S.A. de C.V.
Tuberias y Derivados S.A. de C.V.
Tecnicas de Fluidos S.A. de C.V.
REPUBLIC OF KOREA: Large Power Transformers, A-580-867 | 8/1/20-7/31/21
Iljin Electric Co., Ltd.
Hyosung Heavy Industries Corporation
Hyundai Electric & Energy Systems Co., Ltd.
ILJIN
LSIS Co., Ltd.
REPUBLIC OF KOREA: Low Melt Polyester Staple Fiber, A-580-895 | 8/1/20-7/31/21
Toray Advanced Materials Korea, Inc.
REPUBLIC OF KOREA: Utility Scale Wind Towers, A-580-902 | 2/14/20-7/31/21
CS Wind Corporation
Dongkuk S&C Co., Ltd.
SPAIN: Ripe Olives, A-469-817 | 8/1/20-7/31/21
Aceitunas Guadalquivir, S.L.
Aceitunas Torrent, S.L.
Agro Sevilla Aceitunas, S.Coop. (And.)/Agro Sevilla Aceitunas S.COOP Andalusia
Alimentary Group Dcoop S. Coop. And.
Angel Camacho Alimentacion S.L.
SOCIALIST REPUBLIC OF VIETNAM: Frozen Fish Fillets, A-552-801 | 8/1/20-7/31/21
An Chau Co., Ltd.
An Giang Agriculture and Food Import-Export Joint Stock Company (also known as Afiex or An Giang Agriculture and Foods Import-Export Joint Stock Company)
An My Fish Joint Stock Company (also known as Anmyfish or Anmyfishco)
An Phat Import-Export Seafood Co., Ltd. (also known as An Phat Seafood Co. Ltd. or An Phat Seafood, Co., Ltd.)
An Phu Seafood Corp. (also known as ASEAFOOD or An Phu Seafood Corp.)
Anchor Seafood Corp.
Anvifish Joint Stock Company (also known as Anvifish, Anvifish JSC, or Anvifish Co., Ltd.)
Asia Commerce Fisheries Joint Stock Company (also known as Acomfish JSC or Acomfish)
Basa Joint Stock Company (also known as BASACO)
Ben Tre Aquaproduct Import and Export Joint Stock Company (Bentre Aquaproduct)
Bentre Forestry and Aquaproduct Import Export Joint Stock Company (Bentre Forestry and Aquaproduct Import and Export Joint Stock Company)
Bien Dong Hau Giang Seafood Joint Stock Company (also known as Bien Dong HG or Bien Dong Hau Giang Seafood Joint Stock Co.)
Bien Dong Seafood Company Ltd. (also known as Bien Dong, Bien Dong Seafood, Bien Dong Seafood Co., Ltd., Biendong Seafood Co., Ltd., or Bien Dong Seafood Limited Liability Company)
Binh An Seafood Joint Stock Company (also known as Binh An or Binh An Seafood Joint Stock Co.)
Binh Dinh Import Export Company (also known as Binh Dinh Import Export Joint Stock Company, or Binh Dinh)
C.P. Vietnam Corporation
Cadovimex II Seafood Import-Export and Processing Joint Stock Company (also known as Cadovimex II, Cadovimex II Seafood Import Export and Processing Joint Stock Company, or Cadovimex II Seafood Import-Export)
CAFATEX Corporation (also known as Cafatex)
Can Tho Animal Fishery Products Processing Export Enterprise
Cantho Import-Export Seafood Joint Stock Company (also known as CASEAMEX, Cantho Import Export Seafood Joint Stock Company, Cantho Import-Export Joint Stock Company, Can Tho Import Export Seafood Joint Stock Company, Can Tho Import-Export Seafood Joint Stock Company, or Can Tho Import-Export Joint Stock Company)
Cavina Seafood Joint Stock Company (also known as Cavina Fish)
Colorado Boxed Beef Company (also known as CBBC)
Coral Triangle Processors (dba Mowi Vietnam Co., Limited (Dong Nai))
Cuu Long Fish Import-Export Corporation (also known as CL Panga Fish)
Cuu Long Fish Joint Stock Company (also known as CL-Fish, CL-FISH CORP, or Cuu Long Fish Joint Stock Company)
Da Nang Seaproducts Import-Export Corporation (also known as SEADANANG, Da Nang or Da Nang Seaproducts Import/Export Corp.)
Dai Thanh Seafoods Company Limited (also known as DATHACO, Dai Thanh Seafoods or Dai Thanh Seafoods Co., Ltd.)
East Sea Seafoods LLC (also known as East Sea Seafoods Limited Liability Company, ESS LLC, ESS, ESS JVC, or East Sea Seafoods Joint Venture Co., Ltd.)
Fatifish Company Limited (also known as FATIFISH or FATIFISHCO)
GF Seafood Corp.
Go Dang An Hiep One Member Limited Company
Go Dang Ben Tre One Member Limited Liability Company
GODACO Seafood Joint Stock Company (also known as GODACO, GODACO Seafood, GODACO SEAFOOD, GODACO_SEAFOOD, or GODACO Seafood J.S.C.)
Golden Quality Seafood Corporation (also known as Golden Quality, GoldenQuality, GOLDENQUALITY, or GoldenQuality Seafood Corporation)
Green Farms Seafood Joint Stock Company (also known as Green Farms, Green Farms Seafood JSC, GreenFarm SeaFoods Joint Stock Company, or Green Farms Seafoods Joint Stock Company)
GreenFeed Vietnam Corporation
Hai Huong Seafood Joint Stock Company (also known as HHFish, HH Fish, or Hai Huong Seafood)
Hai Thuan Nam Co Ltd.
Hiep Thanh Seafood Joint Stock Company (also known as Hiep Thanh or Hiep Thanh Seafood Joint Stock Co.)
Hoa Phat Seafood Import-Export and Processing J.S.C. (also known as HOPAFISH, Hoa Phat Seafood Import-Export and Processing Joint Stock Company, Hoa Phat Seafood Import-Export and Processing JSC)
Hoang Long Seafood Processing Company Limited (also known as HLS, Hoang Long, Hoang Long Seafood, HoangLong Seafood, or Hoang Long Seafood Processing Co., Ltd.)
Hung Vuong Group ⁵
Hung Vuong Joint Stock Company
Hung Vuong Seafood Joint Stock Company
Hung Vuong-Mien Tay Aquaculture Corporation (HVMT or Hung Vuong Mien Tay Aquaculture Joint Stock Company)
International Development & Investment Corporation (also known as IDI or International Development and Investment Corporation, International Development & Investment Corporation or IDI International Development & Investment Corporation)
Indian Ocean One Member Company Limited (also known as Indian Ocean Co., Ltd.)
Lian Heng Investment Co. Ltd. (also known as Lian Heng or Lian Heng Investment)
Lian Heng Trading Co. Ltd. (also known as Lian Heng or Lian Heng Trading)
Nam Phuong Seafood Co., Ltd. (also known as Nam Phuong, NAFISHCO, Nam Phuong Seafood, or Nam PhuongSeafood Company Ltd.)
Nam Viet Corporation (also known as NAVICO)
New Food Import, Inc.
Ngoc Ha Co. Ltd. Food Processing and Trading (also known as Ngoc Ha or Ngoc Ha Co., Ltd. Foods Processing and Trading)
Nguyen Tran Seafood Company (also known as Nguyen Tran J-S Co)
Nha Trang Seafoods, Inc. (also known as Nha Trang Seafoods, Nha Trang Seafoods-F89, or Nha Trang Seaproduct Company)
NTACO Corporation (also known as NTACO or NTACO Corp.)
NTSF Seafoods Joint Stock Company (also known as NTSF or NTSF Seafoods)
Phu Thanh Hai Co. Ltd. (also known as PTH Seafood)
PREFCO Distribution, LLC
QMC Foods, Inc.
Quang Minh Seafood Company Limited (also known as Quang Minh, Quang Minh Seafood Co., Ltd., or Quang Minh Seafood Co.)
Quirch Foods, LLC
QVD Food Company, Ltd. (also known as QVD, QVD Food Co., Ltd., or QVD Aquaculture) ⁶
Riptide Foods
Saigon-Mekong Fishery Co., Ltd. (also known as SAMEFICO or Saigon Mekong Fishery Co., Ltd.)
Seafood Joint Stock Company No. 4 (also known as SEAPRIEXCO No. 4)
Seafood Joint Stock Company No. 4 Branch Dongtam Fisheries Processing Company (also known as DOTASEAFOODCO or Seafood Joint Stock Company No. 4—Branch Dong Tam Fisheries Processing Company)
Seavina Joint Stock Company (also known as Seavina)
Southern Fishery Industries Company, Ltd. (also known as South Vina, South Vina Co., Ltd., Southern Fishery Industries Co., Ltd., Southern Fisheries Industries Company, Ltd., or Southern Fisheries Industries Company Limited)
Sunrise Corporation
TG Fishery Holdings Corporation (also known as TG)
Thanh Hung Co., Ltd. (also known as Thanh Hung Frozen Seafood Processing Import Export Co., Ltd. or Thanh Hung)
The Great Fish Company, LLC
Thien Ma Seafood Co., Ltd. (also known as THIMACO, Thien Ma, Thien Ma Seafood Company, Ltd., or Thien Ma Seafoods Co., Ltd.)
Thuan An Production Trading and Service Co., Ltd. (also known as TAFISHCO, Thuan An Production Trading and Services Co., Ltd., or Thuan An Production Trading & Service Co., Ltd.)
Thuan Phuoc Seafoods and Trading Corporation
To Chau Joint Stock Company (also known as TOCHAU, TOCHAU JSC, or TOCHAU Joint Stock Company)
Viet Hai Seafood Company Limited (also known as Viet Hai, Viet Hai Seafood Co., Ltd., Viet Hai Seafood Co., Vietnam Fish-One Co., Ltd., or Fish One)
Viet Phu Foods & Fish Co., Ltd.
Viet Phu Foods and Fish Corporation (also known as Vietphu, Viet Phu, Viet Phu Food and Fish Corporation, or Viet Phu Food & Fish Corporation)
Vietnam Seaproducts Joint Stock Company (also known as Seaprodex or Vietnam Seafood Corporation—Joint Stock Company)
Vinh Long Import-Export Company (also known as Vinh Long, Imex Cuu Long, Vinh Long Import/Export Company)
Vinh Quang Fisheries Corporation (also known as Vinh Quang, Vinh Quang Fisheries Corp., Vinh Quang Fisheries Joint Stock Company, or Vinh Quang Fisheries Co., Ltd.)
Vietnam-Wide Entity
THAILAND: Steel Propane Cylinders, A-549-839 | 8/1/20-7/31/21
Sahamitr Pressure Container Public Company Limited
THE PEOPLE'S REPUBLIC OF CHINA: Cast Iron Soil Pipe Fittings, A-570-062 | 8/1/20-7/31/21
Shijiazhuang Asia Casting Co., Ltd.
Wor-Biz Industrial Product Co., Limited (Anhui)
THE PEOPLE'S REPUBLIC OF CHINA: Hydrofluorocarbon Blends, A-570-028 | 8/1/20-7/31/21
Changshu 3F Zhonghao New Chemical Materials Co., Ltd.
Daikin Fluorochemicals (China) Co., Ltd.
Dongyang Weihua Refrigerants Co., Ltd.
Electrochemical Factory of Zhejiang Juhua Co., Ltd.
Fujian Qingliu Dongying Chemical Ind. Co., Ltd.
Hongkong Richmax Ltd.
Huantai Dongyue International Trade Co. Ltd.
Icool International (Hong Kong) Limited
Jiangsu Bluestar Green Technology Co., Ltd.
Jiangsu Meilan Chemical Co., Ltd.
Jiangsu Sanmei Chemicals Co., Ltd.
Jinhua Binglong Chemical Technology Co., Ltd.
Jinhua Yonghe Fluorochemical Co., Ltd.
Liaocheng Fuer New Materials Technology Co., Ltd.
Linhai Limin Chemicals Co., Ltd.
Ninhua Group Co., Ltd.
Puremann, Inc.
Ruyuan Dongyangguang Fluorine Co., Ltd.
Shandong Dongyue Chemical Co., Ltd.
Shandong Huaan New Material Co., Ltd.
Shandong Xinlong Science Technology Co., Ltd.
Shanghai Aohong Chemical Co., Ltd.
Sinochem Environmental Protection Chemicals (Taicang) Co., Ltd.
Sinochem Lantian Fluoro Materials Co., Ltd.
T.T. International Co., Ltd.
Taizhou Huasheng New Refrigeration Material Co., Ltd.
Taizhou Qingsong Refrigerant New Material Co., Ltd.
Weitron International Refrigeration Equipment (Kunshan) Co., Ltd.
Weitron International Refrigeration Equipment Co., Ltd.
Zhejiang Fulai Refrigerant Co., Ltd.
Zhejiang Guomao Industrial Co., Ltd.
Zhejiang Lantian Environmental Protection Fluoro Material Co. Ltd.
Zhejiang Lishui Fuhua Chemical Co., Ltd.
Zhejiang Organic Fluor-Chemistry Plant, Zhejiang Juhua Co., Ltd.
Zhejiang Quhua Fluor-Chemistry Co., Ltd.
Zhejiang Quhua Juxin Fluorochemical Industry Co., Ltd.
Zhejiang Quzhou Juxin Fluorine Chemical Co., Ltd.
Zhejiang Quzhou Lianzhou Refrigerants Co., Ltd.
Zhejiang Sanmei Chemical Industry Co., Ltd.
Zhejiang Yonghe Refrigerant Co., Ltd.
Zhejiang Zhiyang Chemical Co., Ltd.
Zhejiang Zhonglan Refrigeration Technology Co., Ltd.
Zibo Feiyuan Chemical Co., Ltd.
THE PEOPLE'S REPUBLIC OF CHINA: Light-Walled Rectangular Pipe and Tube, A-570-914 | 8/1/20-7/31/21
Hangzhou Ailong Metal Product Co., Ltd.
THE PEOPLE'S REPUBLIC OF CHINA: Passenger Vehicle and Light Truck Tires, A-570-016 | 8/1/20-7/31/21
Anhui Jichi Tire Co., Ltd.
Crown International Corporation
Giti Tire (Anhui) Company Ltd.
Giti Tire (Fujian) Company Ltd.
Giti Tire Global Trading Pte. Ltd.
Hankook Tire China Co., Ltd.
Hongtyre Group Co.
Jiangsu Hankook Tire Co., Ltd.
Kenda Rubber (China) Co., Ltd.
Koryo International Industrial Limited
Kumho Tire Co., Inc.
Kumho Tire (Changchun) Co., Inc.
Kumho Tire (Tanjin) Co., Inc.
Mayrun Tyre (Hong Kong) Limited
Nanjing Kumho Tire Co., Ltd.
Nankang (Zhangjiagang Free Trade Zone) Rubber Industrial Co., Ltd.
Qingdao Crowntyre Industries Co. Ltd
Qingdao Lakesea Tyre Co., Ltd.
Qingdao Nama Industrial Co., Ltd.
Qingdao Odyking Tyre Co., Ltd.
Qingdao Sentury Tire Co., Ltd.
Qingdao Sunfulcess Tyre Co., Ltd.
Qingdao Transamerica Tire Industrial Co., Ltd.
Roadclaw Tyre (Hong Kong) Limited
Safe & Well (HK) International Trading Limited
Sailun Group (HongKong) Co., Limited, formerly known as Sailun Jinyu Group (Hong Kong) Co., Limited
Sailun Group Co., Ltd., formerly known as Sailun Jinyu Group Co., Ltd.
Sailun Tire Americas Inc., formerly known as SJI North America Inc.
Shandong Changfeng Tyres Co., Ltd.
Shandong Duratti Rubber Corporation Co., Ltd.
Shandong Haohua Tire Co., Ltd.
Shandong Hengyu Science & Technology Co., Ltd.
Shandong Linglong Tyre Co., Ltd.
Shandong Longyue Rubber Co., Ltd.
Shandong New Continent Tire Co., Ltd.
Shandong Province Sanli Tire Manufactured Co., Ltd.
Shandong Wanda Boto Tyre Co., Ltd.
Shandong Yongsheng Rubber Group Co., Ltd.
Shouguang Firemax Tyre Co., Ltd.
Sumitomo Rubber (Changshu) Co., Ltd.
Sumitomo Rubber (Hunan) Co., Ltd.
Triangle Tyre Co., Ltd.
Tyrechamp Group Co., Limited
Wendeng Sanfeng Tyre Co., Ltd.
Winrun Tyre Co., Ltd.
Zhaoqing Junhong Co., Ltd.
Zhongce Rubber Group Co., Ltd.
THE PEOPLE'S REPUBLIC OF CHINA: Polyethylene Retail Carrier Bags, A-570-886 | 8/1/20-7/31/21
Crown Polyethylene Products (International) Ltd.
Dongguan Nozawa Plastics Products Co., Ltd. and United Power Packaging, Ltd. (collectively Nozawa)
THE PEOPLE'S REPUBLIC OF CHINA: Steel Nails, A-570-909 | 8/1/20-7/31/21
Dezhou Hualude Hardware Products Co., Ltd.
Hebei Minmetals Co., Ltd.
Huanghua Jinhai Hardware Products Co. Ltd.
Huanghua Xionghua Hardware Products Co., Ltd.
Jining Dragon Fasteners Co., Ltd.
Jining Huarong Hardware Products Co., Ltd.
Jining Yonggu Metal Products Co., Ltd.
Nanjing Caiqing Hardware Co., Ltd.
Nanjing Yuechang Hardware Co., Ltd.
SDC International Australia Pty. Ltd.
Shandong Oriental Cherry Hardware Group Heze Products Co., Ltd.
Shandong Oriental Cherry Hardware Import and Export Co., Ltd.
Shandong Qingyun Hongyi Hardware Products Co., Ltd
Shanghai Curvet Hardware Products Co., Ltd.
Shanghai Yueda Nails Industry Co., Ltd., a.k.a. Shanghai Yueda Nails Co., Ltd.
Shanxi Hairui Trade Co., Ltd.
Shanxi Pioneer Hardware Industrial Co., Ltd.
Shanxi Tianli Industries Co., Ltd.
S-Mart (Tianjin) Technology Development Co., Ltd.
Suntec Industries Co., Ltd.
Tianjin Jinchi Metal Products Co., Ltd.
Tianjin Jinghai County Hongli Industry & Business Co., Ltd., a.k.a. Tianjin Jinghai County Hongli Industry and Business Co., Ltd.
Tianjin Jishili Hardware Products Co., Ltd.
Tianjin Universal Machinery Imp. & Exp. Corporation
Tianjin Zhitong Metal Products Co., Ltd.
Tianjin Zhonglian Metals Ware Co., Ltd.
Xi'an Metals and Minerals Import & Export Co., Ltd.
Zhejiang Gem-Chun Hardware Accessory Co., Ltd.
CVD Proceedings
INDIA: Finished Carbon Steel Flanges, C-533-872 | 1/1/20-12/31/20
Adinath International
Allena Group
Alloyed Steel
Balkrishna Steel Forge Pvt. Ltd.
Bansidhar Chiranjilal
Bebitz Flanges Works Private Limited
C. D. Industries
Cetus Engineering Private Limited
CHW Forge
CHW Forge Pvt. Ltd.
Citizen Metal Depot
Corum Flange
DN Forge Industries
Echjay Forgings Limited
Falcon Valves and Flanges Private Limited
Heubach International
Hindon Forge Pvt. Ltd.
Jai Auto Pvt. Ltd.
Kinnari Steel Corporation
Mascot Metal Manufacturers
M F Rings and Bearing Races Ltd.
Munish Forge Private Limited
Norma (India) Ltd.
OM Exports
Punjab Steel Works
Raaj Sagar Steels
Ravi Ratan Metal Industries
R.D. Forge
R.N. Gupta & Co. Ltd.
Rolex Fittings India Pvt. Ltd.
Rollwell Forge Engineering Components and Flanges
Rollwell Forge Pvt. Ltd.
SHM (ShinHeung Machinery)
Siddhagiri Metal & Tubes
Sizer India
Steel Shape India
Sudhir Forgings Pvt. Ltd.
Tirupati Forge Pvt. Ltd.
Uma Shanker Khandelwal and Co.
Umashanker Khandelwal Forging Limited
USK Export Private Limited
SPAIN: Ripe Olives, C-469-818 | 1/1/20-12/31/20
Aceitunas Guadalquivir, S.L.U.⁷
Aceitunas Torrent, S.L.
Agro Sevilla Aceitunas S.COOP Andalusia, a.k.a. Agro Sevilla Aceitunas, S.Coop. And.
Angel Camacho Alimentacion S.L.⁸
Alimentary Group Dcoop S.Coop. And., a.k.a. DCOOP, S.Coop. And.
SOCIALIST REPUBLIC OF VIETNAM: Utility Scale Wind Towers, C-552-826 | 12/13/19-12/31/20
CS Wind Corporation
CS Wind Vietnam Co.
THE PEOPLE'S REPUBLIC OF CHINA: Cast Iron Soil Pipe Fittings, C-570-063 | 1/1/20-12/31/20
Shijiazhuang Asia Casting Co., Ltd.
THE PEOPLE'S REPUBLIC OF CHINA: Multilayered Wood Flooring, C-570-971 | 1/1/19-12/31/19
Kember Flooring Inc., a.k.a. Kember Hardwood Flooring, Inc.⁹
THE PEOPLE'S REPUBLIC OF CHINA: Passenger Vehicle and Light Truck Tires, C-570-017 | 1/1/20-12/31/20
Hankook Tire China Co., Ltd.
Jiangsu Hankook Tire Co., Ltd.
Kumho Tire Co., Inc.
Kumho Tire (Tanjin) Co., Inc.
Kumho Tire (Changchun) Co., Inc.
Mayrun Tyre (Hong Kong) Limited
Nanjing Kumho Tire Co., Ltd.
Prinx Chengshan (Shandong) Tire Company Ltd.
Qingdao Lakesea Tyre Co., Ltd.
Qingdao Nexen Tire Corporation
Safe & Well (HK) International Trading Limited
Sailun Group Co., Ltd., formerly known as Sailun Jinyu Group Co., Ltd.
Sailun Group (HongKong) Co., Limited., formerly known as Sailun Jinyu Group (Hong Kong) Co., Limited.
Sailun Tire Americas Inc., formerly known as SJI North America Inc.
Shandong Haohua Tire Co., Ltd.
Shandong Province Sanli Tire Manufactured Co., Ltd.
Shandong Wanda Boto Tyre Co., Ltd.
Sumitomo Rubber (Changshu) Co., Ltd.
Sumitomo Rubber (Hunan) Co., Ltd.
Triangle Tyre Co., Ltd.
Zhaoqing Junhong Co., Ltd.
Zhongce Rubber Group Co., Ltd

Suspension Agreements

None.

⁵ The Hung Vuong Group is a single entity comprised of the following individual companies: (1) An Giang Fisheries Import and Export Joint Stock Company (also known as Agifish, AnGiang Fisheries Import and Export, An Giang Fisheries Import & Export Joint Stock Company); (2) Asia Pangasius Company Limited (also known as ASIA); (3) Hung Vuong Ben Tre Seafood Processing Company Limited (also known as Ben Tre, HVBT, or HVBT Seafood Processing); (4) Europe Joint Stock Company (also known as Europe JSC or EJS CO.); (5) Hung Vuong Corporation (also known as HVC or HV Corp.); (6) Hung Vuong Mascato Company Limited; (7) Hung Vuong—Sa Dec Co., Ltd. (also known as Hung Vuong-Sa Dec Co., Ltd. or Hung Vuong Sa Dec Company Limited); and (8) Hung Vuong—Vinh Long Co., Ltd. (also known as Hung Vuong-Vinh Long Co., Ltd. or Hung Vuong Vinh Long Company Limited).

⁶ QVD Food Company, Ltd. is a single entity that also includes: (1) QVD Dong Thap Food Co., Ltd. (also known as Dong Thap or QVD DT); and (2) Thuan Hung Co., Ltd. (also known as THUFICO).

⁷ Commerce found this company to be cross owned with: Coromar Inv., S.L., AG Explotaciones Agricolas, S.L.U., and Grupo Aceitunas Guadalquivir, S.L. See Ripe Olives from Spain: Amended Final Affirmative Countervailing Duty Determination and Countervailing Duty Order, 83 FR 37469, August 1, 2018.

⁸ Commerce previously found this company to be cross owned with Cuarterola S.L., Cucanoche S.L., and Grupo Angel Camacho Alimentacion. See Ripe Olives from Spain: Final Results of Countervailing Duty Administrative Review; 2017-2018; Correction, 86 FR 38269, July 20, 2021.

⁹ This company was inadvertently omitted from the initiation notice that published on February 4, 2021 (86 FR 8166).

| Period to be reviewed
Deferral of Initiation of Administrative Review
INDONESIA: Utility Scale Wind Towers,¹⁰ C-560-834 | 12/13/19-12/31/20
PT Kenertec Power System

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

¹⁰ Pursuant to 19 CFR 351.213(c), Commerce received a request from PT Kenertec Power System to defer the administrative review of this CVD order with respect to itself for one year. Commerce did not receive any objections to the deferral within 15 days after the end of the anniversary month. As such, we will initiate the administrative review of this CVD order with respect to PT Kenertec Power System in the month immediately following the next anniversary month.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹¹ available at https://enforcement.trade.gov/frn/2013/1304frn/2013-08227.txt, prior to submitting factual information in this segment. Note that Commerce has temporarily modified certain of its requirements for serving documents containing business proprietary information, until further notice.¹²

¹¹ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹² See Temporary Rule Modifying AD/CVD Service Requirements Due to COVID-19, 85 FR 41363 (July 10, 2020).

Any party submitting factual information in an AD or CVD proceeding must certify to the accuracy and completeness of that information using the formats provided at the end of the Final Rule.¹³ Commerce intends to reject factual submissions in any proceeding segments if the submitting party does not comply with applicable certification requirements.

¹³ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁴ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁴ See 19 CFR 351.302.

These initiations and this notice are in accordance with section 751(a) of the Act (19 U.S.C. 1675(a)) and 19 CFR 351.221(c)(1)(i).

Dated: October 1, 2021.
Scot Fullerton,
Associate Deputy Assistant Secretary for Antidumping and Countervailing Duty Operations.

[FR Doc. 2021-21900 Filed 10-6-21; 8:45 am]

BILLING CODE 3510-DS-P